DEPARTMENT OF ENERGY

Federal Energy Regulatory Commission

[Docket No. RD25-5-000]

Commission Information Collection Activities (FERC-725r and FERC-725a); Comment Request; Revision

AGENCY: Federal Energy Regulatory Commission.

ACTION: Notice of information collection and request for comments.

SUMMARY: In compliance with the requirements of the Paperwork Reduction Act of 1995, the Federal Energy Regulatory Commission (Commission or FERC) is soliciting public comment on proposed revisions of the currently approved information collection, FERC-725R, (Mandatory Reliability Standards: BAL Reliability Standards) and FERC-725A, Mandatory Reliability Standards for the Bulk-Power System: TOP and INT Standards.

DATES: Comments on the collection of information are due June 10, 2025.

ADDRESSES: You may submit copies of your comments (identified by Docket No. RD25-5-000) by one of the following methods:

Electronic filing through https://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Kayla Williams may be reached by email at DataClearance@FERC.gov, telephone at (202) 502-6468.

SUPPLEMENTARY INFORMATION:

Title: FERC-725R, (Mandatory Reliability Standards: BAL Reliability Standards) and FERC-725A, Mandatory Reliability Standards for the Bulk-Power System: TOP and INT Standards.

OMB Control No.: FERC-725R (1902-0268) and FERC-725A (1902-0244).

Type of Request: Revision of FERC-725R—Mandatory Reliability Standards, proposed Reliability Standard BAL-007-1 (Near-term Energy Reliability Assessments) and FERC-725A—proposed Reliability Standard TOP-003-7 (Transmission Operator and Balancing Authority Data and Information Specification and Collection).

Abstract: The FERC-725R and FERC-725A information collection requirements are subject to review by the Office of Management and Budget (OMB) under section 3507(d) of the Paperwork Reduction Act of 1995. OMB's regulations require approval of certain information collection requirements imposed by agency rules. Upon approval of a collection of information, OMB will assign an OMB control number and expiration date. Respondents subject to the filing requirements will not be penalized for failing to respond to these collections of information unless the collections of information display a valid OMB control number. The Commission solicits comments on the need for this information, whether the information will have practical utility, the accuracy of the burden estimates, ways to enhance the quality, utility, and clarity of the information to be collected or retained, and any suggested methods for minimizing respondents' burden, including the use of automated information techniques.

The Commission bases its paperwork burden estimates on the additional paperwork burden presented by the proposed the Commission's regulations,¹ proposing the approval of proposed Reliability Standard BAL-007-1 (Near-term Energy Reliability Assessments), the approval of proposed Reliability Standard TOP-003-7 (Transmission Operator and Balancing Authority Data and Information Specification and Collection), and the approval of the proposed definitions of the terms Energy Reliability Assessment (ERA) and Near-Term Energy Reliability Assessment (Near-Term ERA) for inclusion in the Glossary of Terms Used in NERC Reliability Standards.

¹ 18 CFR 39.5.

NERC explains “the purpose of proposed Reliability Standard BAL-007-1 is to identify and minimize the risks of forecasted Energy Emergencies in the operations planning time horizon by analyzing the expected resource mix availability.” ² NERC states that proposed Reliability Standard BAL-007-1 requires balancing authorities “to perform a Near-Term ERAs and have Operating Plans in place to identify and minimize the risks of forecasted Energy Emergencies.” ³ Furthermore, NERC states that “proposed Reliability Standard TOP-003-7 would provide the Balancing Authority with specific authority to collect the data necessary to perform the Near-Term ERAs.” ⁴ Based on the NERC Compliance Registry, as of November 20, 2024, we estimate that 97 balancing authorities (BAs) would be subject to mandatory compliance with proposed Reliability Standard BAL-007-1. For proposed Reliability Standard TOP-003-7, only the 97 balancing authorities will have a change in burden.

² NERC Petition at 3.

³ Id.

⁴ Id. at 4.

Proposed Burden BAL-007-1 Docket No. RD25-5
Reliability standard | Type and number of entity ⁵ | Number of annual responses per entity | Total number of responses | Average number of burden hours per response ⁶ | Total burden hours
| (1) | (2) | (1) * (2) = (3) | (4) | (3) * (4) = (5)
Annual Collection BAL-007-1 FERC-725R
Annual review and record retention | 97 (BA) | 1 | 97 | 24 hrs.; $70.67/hr | 2,328 hrs.; $164,519.76.
Total for BAL-007-1 |  |  | 97 |  | 2,328 hrs.; $164,519.76.

Proposed Burden TOP-003-7 Docket No. RD25-5
Reliability standard | Type and number of entity ⁷ | Number of annual responses per entity | Total number of responses | Average number of burden hours per response ⁸ | Total burden hours
| (1) | (2) | (1) * (2) = (3) | (4) | (3) * (4) = (5)
Annual Collection TOP-003-7 FERC-725A
Annual review and record retention | 97 (BA) | 1 | 97 | 4 hrs.; $70.67/hr | 388 hrs.; $27,419.96.
Total for TOP-003-7 |  |  | 97 |  | 388 hrs.; $27,419.96.

The annual responses and burden hours for proposed Reliability Standard BAL-007-1 is 97 responses; 2,328 hours. The annual responses and burden hours for proposed Reliability Standard TOP-003-7 is 97 responses; 388 hours.

⁵ Number of entity data taken from the NERC compliance registry, dated November 20, 2024.

⁶ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

⁷ Number of entity data taken from the NERC compliance registry, dated November 20, 2024.

⁸ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

The annual cost burden is $164,519.76 for proposed Reliability Standard BAL-007-1, and $27,419.96 for proposed Reliability Standard TOP-003-7.

Title: Mandatory Reliability Standards, proposed Reliability Standard BAL-007-1 (Near-term Energy Reliability Assessments) and proposed Reliability Standard TOP-003-7 (Transmission Operator and Balancing Authority Data and Information Specification and Collection).

Action: Revision to FERC-725R and FERC-725A information collection.

OMB Control No.: 1902-0268 & 1902-0244.

Respondents: Businesses or other for-profit institutions; not-for-profit institutions.

Frequency of Responses: Annually.

Necessity of the Information: This order approves Reliability Standards pertaining to near-term energy reliability assessments and data and information specification and collection. As discussed above, the Commission, through its delegated authority to the Director of the Office of Electric Reliability under 18 CFR 375.303, approves these Reliability Standards because the Standards will help identify and minimize the risks of forecasted energy emergencies in the operations planning time horizon by analyzing the expected resource mix availability and requiring the development of operating plans where necessary.

Internal Review: The Commission, through its delegated authority to the Director of the Office of Electric Reliability, has reviewed the proposed Reliability Standards and made a determination that its action is necessary to implement section 215 of the FPA.

Interested persons may obtain information on the reporting requirements by contacting the following: Federal Energy Regulatory Commission, 888 First Street NE, Washington, DC 20426; Attention: Kayla Williams, Office of the Executive Director, email: DataClearance@ferc.gov, phone: (202) 502-6468.

For submitting comments concerning the collection(s) of information and the associated burden estimate(s), please send your comments to the Commission, and to the Office of Management and Budget, Office of Information and Regulatory Affairs, Washington, DC 20503 [Attention: Desk Officer for the Federal Energy Regulatory Commission, phone: (202) 395-4638, fax: (202) 395-7285]. For security reasons, comments to OMB should be submitted by email to: oira_submission@omb.eop.gov. Comments submitted to OMB should include Docket Number RD25-5-000 and OMB Control Number 1902-0264.

In addition to publishing the full text of this document in the Federal Register, the Commission provides all interested persons an opportunity to view and/or print the contents of this document via the internet through the Commission's Home Page (https://www.ferc.gov).

From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from the Commission's Online Support at (202) 502-6652 (toll free at 1-866-208-3676) or email at ferconlinesupport@ferc.gov, or the Public Reference Room at (202) 502-8371, TTY (202) 502-8659. Email the Public Reference Room at public.referenceroom@ferc.gov.

All submissions must be formatted and filed in accordance with submission guidelines at: https://www.ferc.gov/help/submission-guide.asp. For user assistance, contact FERC Online Support by email at ferconlinesupport@ferc.gov, or by phone at: (866) 208-3676 (toll-free), or (202) 502-8659 for TTY.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: April 7, 2025.
Debbie-Anne A. Reese,
Secretary.

[FR Doc. 2025-06220 Filed 4-10-25; 8:45 am]

BILLING CODE 6717-01-P